SMALL BUSINESS ADMINISTRATION

National Small Business Development Centers Advisory Board

AGENCY: U.S. Small Business Administration.

ACTION: Notice of open Federal Advisory Committee meetings.

SUMMARY: The SBA is issuing this notice to announce the location, date, time and agenda for the 2nd and 3rd quarter meetings of the Federal Advisory Committee for the Small Business Development Centers Program. The meetings will be open to the public; however, advance notice of attendance is required.

DATES:

Tuesday, January 10, 2017, at 1:00 pm EST

Sunday, February 5, 2017, at 2:00 p.m. EST—In person

Tuesday, March 21, 2017, at 1:00 p.m. EST

Tuesday, April 11, 2017, at 1:00 p.m. EST

Tuesday, May 16, 2017, at 1:00 p.m. EST

Tuesday, June 20, 2017, at 1:00 p.m. EST

ADDRESSES: All meetings will be held via conference call with the exception of Sunday, February 5, 2017. February meeting will be held at the Crystal City Marriot at Reagan National, 1999 Jefferson Davis Hwy., Arlington, VA 22202.

FOR FURTHER INFORMATION CONTACT: Monika Nixon, Office of Small Business Development Center, U.S. Small Business Administration, 409 Third Street SW., Washington, DC 20416; monika.nixon@.sba.gov.

If anyone wishes to be a listening participant or would like to request accommodations, please contact Monika Nixon at the information above.

SUPPLEMENTARY INFORMATION: Pursuant to section 10(a) of the Federal Advisory Committee Act (5 U.S.C. Appendix 2), SBA announces the meetings of the National SBDC Advisory Board. This Board provides advice and counsel to the SBA Administrator and Associate Administrator for Small Business Development Centers.

The purpose of the meetings is to discuss the following issues pertaining to the SBDC Program:

SBA Update

Annual Meetings

Board Assignments

Member Roundtable

Dated: December 19, 2016.
Miguel L' Heureux White,
House Liaison.

[FR Doc. 2016-31135 Filed 12-23-16; 8:45 am]

BILLING CODE P